DEPARTMENT OF ENERGY

Federal Energy Regulatory Commission

Notice

July 24, 2002.

The following notice of metting is published pursuant to Section 3(a) of the Government in the Sunshine Act (Pub. L. No. 94-409), 5 U.S.C 552b:

Agency Holding Meeting: Federal Energy Regulatory Commission.

Date and Time: July 31, 2002, 10:00 a.m.

Place: Room 2C, 888 First Street, NE., Washington, DC 20426.

Status: Open.

Matters To Be Considered: Agenda.

Note.— Items listed on the Agenda may be deleted without further notice.

Contact Person for More Informaiton: Magalie R. Salas, Secretary, Telephone (202) 208-0400. For a recording listing items stricken from or added to the meeting, call (202) 208-1627.

This is a list of matters to be considered by the Commission. It does not include a listing of all papers relevant to the items on the agenda. However, all public documents may be examined in the reference and information center.

801st—Meeting July 31, 2002, Regular Meeting, 10:00 a.m.

Administrative Agenda

A-1.

Docket# AD02-1, 000, Agency Administrative Matters

A-2.

Docket# AD02-7, 000, Customer Matters, Reliability, Security and Market Operations

Markets, Tariffs and Rates—Electric

E-1.

Docket# RM01-12, 000, Electricity Market Design and Structure

E-2.

Docket# ER02-2153, 000, ISO New England Inc.

E-3.

Docket# ER02-2233, 000, Grid America Participants

E-4.

Docket# ER02-2014, 000, Entergy Services, Inc.

E-5.

Omitted

E-6.

Docket# ER02-2043, 000, California Independent System Operator Corporation

Other#s ER02-2046, 000, California Independent System Operator Corporation

E-7.

Docket# ER02-2033, 000, Midwest Independent Transmission System Operator, Inc.

Other#s ER02-2033, 001, Midwest Independent Transmission System Operator, Inc.

E-8.

Omitted

E-9.

Omitted

E-10.

Omitted

E-11.

Docket# RT01-15, 002, Avista Corporation, Nevada Power Company, Portland General Electric Company and Sierra Pacific Power Company

Other#s ER02-323, 000, TransConnect, LLC

E-12.

Docket# RT01-35, 005, Avista Corporation, Bonneville Power Administration, Idaho Power Company, Nevada Power Company, Northwestern Energy, L.L.C., PacifiCorp, Portland General Electric Company, Puget Sound Energy, Inc., Sierra Pacific Power Company and British Columbia Hydro and Power Authority

Other#s RT01-35, 007, Avista Corporation Bonneville Power Administration, Idaho Power Company, Nevada Power Company, Northwestern Energy, L.L.C., PacifiCorp, Portland General Electric Company, Puget Sound Energy, Inc., Sierra Pacific Power Company and British Columbia Hydro and Power Authority

E-13.

Omitted

E-14.

Omitted

E-15.

Omitted

E-16.

Omitted

E-17.

Docket# ER97-2358, 002, Pacific Gas and Electric Company

Other#s ER97-2355, 002, Southern California Edison Company

ER97-2364, 002, San Diego Gas & Electric Company

ER97-4235, 002, San Diego Gas & Electric Company

ER98-497, 002, San Diego Gas & Electric Company

ER98-2322, 000, Southern California Edison Company

ER98-2351, 001, Pacific Gas and Electric Company

ER98-2371, 000, San Diego Gas & Electric Company

E-18.

Omitted

E-19.

Omitted

E-20.

Docket# TX02-1, 000, Pinnacle West Capital Corporation

Other#s TX02-1, 001, Pinnacle West Capital Corporation

E-21.

Docket# ER02-456, 001, Electric Generation LLC

E-22.

Omitted

E-23.

Omitted

E-24.

Omitted

E-25.

Docket# EL02-46, 001, Generator Coalition v. Entergy Services, Inc.

Other#s ER01-2201, 002, Entergy Services, Inc.

E-26.

Docket# EL02-58, 001, Public Service Company of New Mexico v. Arizona Public Service Company

E-27.

Omitted

E-28.

Docket# EL02-99, 000, Baja California Power, Inc.

E-29.

Omitted

E-30.

Docket# RM02-12, 000, Standardization of Small Generator Interconnection Agreements and Procedures

E-31.

Docket# EL02-65, 000, Alliance Companies

Other#s RT01-88, 016, Ameren Corporation

E-32.

Docket# EL02-98, 000, PSEG Power Cross Hudson Corporation

E-33.

Docket# EL02-63, 000, Constellation Power Source, Inc. v. California Power Exchange Corporation

Other#s EL02-104, 000, California Power Exchange Corporation

E-34.

Docket# EL02-95, 000, Constellation Power Source, Inc. v. American Electric Power Service Corporation and Southwest Power Pool, Inc.

Other#s ER02-2028, 000, American Electric Power Service Corporation

E-35.

Omitted

E-36.

Docket# ER00-2360, 000, Pacific Gas and Electric Company

Other#s ER00-2360, 001, Pacific Gas and Electric Company

ER00-2360, 003, Pacific Gas and Electric Company

E-37.

Omitted

E-38.

Omitted

E-39.

Omitted

E-40.

Omitted

E-41.

Docket# RT02-1, 000, Arizona Public Service Company

Other#s EL02-9, 000, Arizona Public Service Company

E-42.

Docket# ER00-2413, 008, American Electric Power Service Corporation

Other#s ER00-3435, 004, Carolina Power & Light Company

ER01-247, 006, Virginia Electric & Power Company

E-43.

Docket# PL02-7, 000, Policy Statement Regarding Standard of Review for Proposed Changes to Market-Based Rate Contracts for Wholesale Sales of Electric Energy by Public Utilities

Miscellaneous Agenda

M-1.

Docket# RM02-11, 000, Civil Monetary Penalty Inflation Adjustment Rule

M-2.

Docket# RM02-10, 000, Electronic Registration

M-3.

Docket# RM02-3, 000, Accounting and Reporting of Financial Instruments, Comprehensive Income, Derivatives and Hedging Activities

Markets, Tariffs and Rates—Gas

G-1.

Docket# RP02-147, 000, ANR Pipeline Company

Other#s RP02-147, 001, ANR Pipeline Company

G-2.

Docket# RP02-385, 000, Questar Southern Trails Pipeline Company

G-3.

Docket# RP96-389, 055, Columbia Gulf Transmission Company

G-4.

Docket# RP02-383, 000, Columbia Gas Transmission Corporation

G-5.

Docket# RP02-384, 000, Columbia Gulf Transmission Company

G-6.

Docket# RP96-312, 076, Tennessee Gas Pipeline Company

Other#s RP96-312, 077, Tennessee Gas Pipeline Company

RP96-312, 078, Tennessee Gas Pipeline Company

RP96-312, 079, Tennessee Gas Pipeline Company

RP96-312, 080, Tennessee Gas Pipeline Company

RP96-312, 081, Tennessee Gas Pipeline Company

G-7.

Omitted

G-8.

Docket# RP02-382, 000, Crossroads Pipeline Company

G-9.

Omitted

G-10.

Docket# RP02-379, 000, CMS Trunkline LNG Company, LLC

G-11.

Omitted

G-12.

Docket# RP01-350, 000, Colorado Interstate Gas Company

Other#s CP00-452, 000, Colorado Interstate Gas Company

CP01-1, 000, Colorado Interstate Gas Company

RP01-200, 000, Colorado Interstate Gas Company

RP01-350, 008, Colorado Interstate Gas Company

G-13.

Omitted

G-14.

Docket# RP02-367, 000, Northern Border Pipeline Company

G-15.

Omitted

G-16.

Omitted

G-17.

Docket# RP02-378, 000, Texas Gas Transmission Corporation

G-18.

Docket# RP02-368, 000, Midwestern Gas Transmission Company

G-19.

Omitted

G-20.

Omitted

G-21.

Docket# IS02-109, 002, Platte Pipe Line Company

G-22.

Omitted

G-23.

Omitted

G-24.

Docket# RP02-212, 001, Columbia Gulf Transmission Company

G-25.

Docket# RP02-213, 001, Columbia Gas Transmission Corporation

G-26.

Omitted

G-27.

Docket# MG02-2, 000, Central New York Oil and Gas Company, LLC

G-28.

Docket# RP02-309, 000, Sunoco, Inc. (R&M) v, Transcontinental Gas Pipe Line Corporation

G-29.

Omitted

G-30.

Docket# RP99-485, 000, Enbridge Pipelines (KPC)

G-31.

Docket# OR02-5, 000, Big West Oil, LLC, Chevron Products Company and Tesoro Refining and Marketing Company v. Elberta Energy Company, Ltd., Express Pipeline LLC and Platte Pipe Line Company

Other#s OR02-8, 000, Big West Oil, LLC, Chevron Products Company, Sinclair Oil Corporation and Tesoro Refining and Marketing Company v. Express Pipeline LLC

Other#s IS02-384, 000, Platte Pipe Line Company

G-32.

Docket# RP00-482, 002, Reliant Energy Gas Transmission Company

Other#s RP01-12, 002, Reliant Energy Gas Transmission Company

RP01-317, 003, Reliant Energy Gas Transmission Company

Energy Projects—Hydro

H-1.

Docket# P-6032, 044, Niagara Mohawk Power Corporation and Fourth Branch Associates (Mechanicville)

H-2.

Omitted

H-3.

Omitted

H-4.

Docket# P-1864, 016, North Shore Concerned Citizens Group of Lake Gogebic v. Upper Peninsula Power Company

H-5.

Docket# P-6132, 008, John C. Jones

H-6.

Omitted

Energy Projects—Certificates

C-1.

Docket# CP00-166, 002, Williams Gas Pipelines Central, Inc.

C-2.

Docket# CP99-76, 000, Transcontinental Gas Pipe Line Corporation

C-3.

Omitted

C-4.

Omitted

C-5.

Docket# CP96-583, 002, Kinder Morgan Texas Pipeline, Inc.

C-6.

Docket# CP02-382, 000, West Texas Gas, Inc.

C-7.

Docket# CP99-233, 000, Florida Gas Transmission Company

C-8.

Omitted

C-9.

Omitted

C-10.

Omitted

C-11.

Omitted

C-12.

Docket# CP01-87, 003, Dominion Transmission, Inc.

Magalie R. Salas,
Secretary.

[FR Doc. 02-19194 Filed 7-29-02; 8:45 am]

BILLING CODE 6717-01-P